FEDERAL COMMUNICATIONS COMMISSION

[Report No. 2562]

Petitions for Reconsideration of Action in Rulemaking Proceedings

July 11, 2002.

Petitions for Reconsideration have been filed in the Commission's rulemaking proceedings listed in this Public Notice and published pursuant to 47 CFR 1.429(e). The full test of this document is available for viewing and copying in Room CY-A257, 445 12th Street, SW., Washington, DC or may be purchased from the Commission's copy contractor, Qualex International (202) 863-2893. Oppositions to these petitions must be filed by August 6, 2002. See Section 1.4(b)(1) of the Commission's rules (47 CFR 1.4(b)(1)). Replies to an opposition must be filed within 10 days after the time for filing oppositions has expired.

Subject: Rulemaking to amend Parts 1, 2, 21 and 25 of the Commission's Rules to redesignate the 27.5-29.5 GHz frequency band, to reallocate the 29.5-30.0 GHz frequency band, to establish rules and polices for local multipoint distribution service and for fixed satellite services (CC Docket No. 92-297).

Number of Petitions Filed: 1.

Subject: Amendment of the FM Table of Allotments (MM Docket No. 00-69).

Number of Petitions Filed: 3.

Marlene H. Dortch,
Secretary.

[FR Doc. 02-18369 Filed 7-19-02; 8:45 am]

BILLING CODE 6712-01-M